DEPARTMENT OF AGRICULTURE

Foreign Agricultural Service

Request for Approval of an Existing Information Collection in Use Without an OMB Control Number

AGENCY: Foreign Agricultural Service, USDA.

ACTION: Notice and request for comments.

SUMMARY: In accordance with the Paperwork Reduction Act of 1995, this notice announces the intention of the Foreign Agricultural Service (FAS) to request approval from the Office of Management and Budget (OMB) of an Existing Information Collection in use without an OMB Control Number for grants and agreements issued pursuant to the National Agricultural Research, Extension, and Teaching Policy Act of 1977 (NARETPA).

DATES: Comments on this notice must be received by October 16, 2023 to be assured of consideration.

ADDRESSES: You may send comments, identified by the OMB Control number 0551—New, by any of the following methods:

• Federal eRulemaking Portal: http://www.regulations.gov. This portal enables respondents to enter short comments or attach a file containing lengthier comments.

• Email: Jim.Suits@usda.gov. Include OMB Control number 0551—New in the subject line of the message.

• Mail, Courier, or Hand Delivery: Jim Suits, Foreign Agricultural Service, U.S. Department of Agriculture, 1400 Independence Avenue SW, Washington, DC 20250-1030.

Instructions: All submissions received must include the agency name and OMB Control Number for this notice.

FOR FURTHER INFORMATION CONTACT: Jim Suits, 202-720-6328, Jim.Suits@usda.gov.

SUPPLEMENTARY INFORMATION:

Title: Grant and Agreement Applications and Reporting for Activities in International Research, Extension, and Teaching.

OMB Number: 0551—New.

Expiration Date of Approval: Three years from approval date.

Type of Request: Existing Information Collection in use without an OMB Control Number.

Abstract: Section 503 of the Agricultural Trade Expansion Act of 1978 (7 U.S.C. 5693), as delegated via 7 CFR 2.601, empowers the Foreign Agricultural Service (FAS) to assist the Secretary of Agriculture by, inter alia, providing agricultural technical assistance and training and by carrying out other legislated programs, including international agricultural research, extension, and teaching as authorized by the National Agricultural Research, Extension, and Teaching Policy Act of 1977, 7 U.S.C. 3101 et seq. FAS administers eight grant and agreement programs under both general and specific authorities provided by NARETPA, including several Fellowship and Exchange programs, collaborative science and research programs, and international technical agricultural assistance. FAS collects a variety of information from the applicants and recipients of these grant and cooperative agreement programs to ensure that the most meritorious projects are supported and that funds are supporting activities that are advancing the public purpose prescribed in law, and to validate compliance with governmentwide and program-specific requirements. This information collection includes project narratives and budget narratives in the pre-award phase and performance progress reporting in the post-award phase. Information collections related to beneficiaries of these programs are covered by separate approvals.

Estimate of Burden: The public reporting burden for each respondent resulting from this information collection varies in direct relation to the number of voluntary applications that each respondent submits.

Type of Respondents: State agricultural experiment stations, State cooperative extension services, all colleges and universities, other research or education institutions and organizations, Federal and private agencies and organizations, individuals, and any other contractor or recipient, either foreign or domestic.

Estimated Number of Respondents: 100 per annum.

Estimated Number of Responses per Respondent: 5.57 per annum.

Estimated Total Annual Burden: 1,028 hours per annum.

Copies of this information collection may be obtained from Dacia Rogers, the Agency Information Collection Coordinator, at Dacia.Rogers@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at http://www.regulations.gov and at the mail address listed above between 8:00 a.m. and 4:30 p.m., Monday through Friday, except holidays.

Comments will be summarized and included in the submission for OMB approval.

Persons with disabilities who require an alternative means for communication of information (Braille, large print, audiotape, etc.) should contact RARequest@usda.gov.

Daniel Whitley,
Administrator, Foreign Agricultural Service.

[FR Doc. 2023-17721 Filed 8-16-23; 8:45 am]

BILLING CODE 3410-10-P